DEPARTMENT OF THE INTERIOR

National Park Service

National Register of Historic Places; Weekly Listing of Historic Properties

Pursuant to (36 CFR 60.13(b,c)) and (36 CFR 63.5), this notice, through publication of the information included herein, is to appraise the public as well as governmental agencies, associations and all other organizations and individuals interested in historic preservation, of the properties added to, or determined eligible for listing in, the National Register of Historic Places from December 15 to December 24, 2008.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: February 2, 2009.
J. Paul Loether,
Chief, National Register of Historic Places/National Historic Landmarks Program.

KEY: State, County, Property Name, Address/Boundary, City, Vicinity, Reference Number, NHL, Action, Date, Multiple Name

ARKANSAS

Nevada County

Prescott Commercial Historic District, Roughly bounded by E. 3rd St., Walnut St., W. 3rd St. and Pine St., Prescott, 08000818, LISTED, 12/24/08

CONNECTICUT

New London County

William Clark Company Thread Mill, 21 Pawcatuck Ave., 12 and 22 River Rd., Stonington, 08001190, LISTED, 12/16/08

DELAWARE

New Castle County

West 9th Street Commercial Historic District, 111-320 W. 9th St., 901-909 N. Orange St., 825-901 N. Tatnall St., Wilmington, 08001204, LISTED, 12/22/08

DISTRICT OF COLUMBIA

District of Columbia State Equivalent

Randall Junior High School, 65 I St., SW., Washington, D.C., 08001205, LISTED, 12/22/08 (Public School Buildings of Washington, DC MPS)

Shaw Junior High School, 7th St., and Rhode Island Ave., NW, Washington, D.C., 08001206, LISTED, 12/22/08 (Public School Buildings of Washington, DC MPS)

FLORIDA

Dade County

Fontainebleau Hotel, 4441 Collins Ave., Miami Beach, 08001318, LISTED, 12/22/08

Glades County

Red Barn, 3 mi. W of Co. Rd. 721 on Co. Rd. 721A, Okeechobee vicinity, 08001243, LISTED, 12/24/08

ILLINOIS

Cook County

Hohf, Dr. Robert, House, 303 Sheridan Rd., Kenilworth vicinity, 08001166, LISTED, 12/12/08

INDIANA

Hamilton County

Castor Farm Site, Address Restricted, Noblesville vicinity, 08001207, LISTED, 12/18/08

Hancock County

Barr, Charles, House, 25 W. Walnut St., Greenfield, 08001208, LISTED, 12/22/08

Howard County

Kokomo Courthouse Square Historic District, Bounded by Taylor St. on the N., Market St. on the E., Superior St. on the S., Washington St. on the W., Kokomo, 08001209, LISTED, 12/22/08

Old Silk Stocking Historic District, Bounded by W. Jackson St. on the N., Washington St. on the E., Wildcat Creek in the S., Phillips St. on the W., Kokomo, 08001210, LISTED, 12/22/08

Lake County

Rumsey, J. Claude, House, 709 Michigan Ave., Lowell, 08001211, LISTED, 12/22/08

Madison County

Madison County Bridge No. 149, Fall Creek Pkwy and Huntsville Pk. over Fall Creek, Pendleton, 08001212, LISTED, 12/22/08

Sullivan County

Sullivan County Courthouse, 100 Courthouse Sq., Sullivan, 08001213, LISTED, 12/22/08

KENTUCKY

Warren County

Adams—Kentucky District, 900-1200 blks. of Adams St. & 1000-1300 blks. of Kentucky St., Bowling Green, 08000012, LISTED, 12/18/08

LOUISIANA

Iberia Parish

New Iberia (steamboat) shipwreck, Address Restricted, New Iberia, 08001214, LISTED, 12/24/08

MARYLAND

Allegany County

Rolling Mill Historic District, Portions of Williams, Elm, Spring, Short, Baker, and Ascension Sts., Miltenberger Pl., Sheridan Pl., Maryland Ave, Cumberland, 08001215, LISTED, 12/24/08

Anne Arundel County

Skipworth's Addition, Address Restricted, Harwood, 08001216, LISTED, 12/22/08 (Quaker Sites in the West River Meeting, Anne Arundel County, Maryland c. 1650-1785, MPS)

Baltimore Independent City

Bellona-Gittings Historic District, Bounded by E. Lake, Melrose and Gittings Aves., York Rd., Charles Rd., Charlesbrooke and Overbrook Rds., Baltimore, 08001217, LISTED, 12/24/08

Washington County

Sharpsburg Historic District, E. and W., Chapline, Antietam, and High Sts., N. and S. Church, Mechanic, Hall, and Potomac Sts., Sharpsburg, 08001218, LISTED, 12/24/08

MASSACHUSETTS

Norfolk County

Medway Village Historic District, Bounded by former New York and Boston railroad right of way, Oakland St., and Charles River, Medway, 08001191, LISTED, 12/17/08

MISSOURI

Callaway County

Oakley Chapel African Methodist Episcopal Church, Co. Rd. 485 at jct. of Co. Rd. 486, Tebbetts vicinity, 08001192, LISTED, 12/17/08

Jackson County

Walnut Street Warehouse and Commercial Historic District (Boundary Increase II), 1526, 1524, 1520, 1516-18, 1512-14, and 1508 Grand Blvd., Kansas City, 08001193, LISTED, 12/17/08

MONTANA

Yellowstone County

L and L Building, 2624 Minnesota Ave., Billings, 08001227, LISTED, 12/19/08

Oliver Building, 2702 Montana Ave., Billings, 08001228, LISTED, 12/19/08

NEW YORK

Chemung County

Buildings at 104-116 West Water St., 104-116 W. Water St., Elmira, 08001230, LISTED, 12/17/08

OHIO

Clark County

Masonic Temple, 125 W. High St., Springfield, 08001195, LISTED, 12/17/08

Fairfield County

Fairfield County Children's Home, 1743 E. Main St., Lancaster, 08001196, LISTED, 12/22/08

Hamilton County

Pinecroft, 2336 Kipling Ave., Cincinnati, 08001197, LISTED, 12/17/08

Montgomery County

Bull, Jonah, House, 2233 Wayne Ave., Dayton, 08001198, LISTED, 12/19/08

Warren County

King, Ahimaaz, House, 1720 E. King Ave., Kings Mills vicinity, 08001199, LISTED, 12/19/08

RHODE ISLAND

Washington County

Rose, Benoni, House, 97 Lafayette Rd., North Kingstown, 08000717, LISTED, 12/24/08

WASHINGTON

Chelan County

Downtown Wenatchee Historic District, Roughly bounded by Columbia St., Mission St., N. 1st St., and Kittitas St., Wenatchee, 08001200, LISTED, 12/17/08

Grant County

Reiman, Samuel and Katherine, House, 415 F. St. SW., Quincy, 08001201, LISTED, 12/17/08

WEST VIRGINIA

Cabell County

Barboursville Historic District, Water, Main, Brady Sts., and Central Ave., Barboursville, 08001234, LISTED, 12/24/08

Wellington, Zachary Taylor, House, 415 Main St., Huntington, 08001235, LISTED, 12/24/08

Hardy County

Kotz, Francis, Farm, 27625 St. Rt. 55, Wardensville vicinity, 08001237, LISTED, 12/22/08

Switzer, Nicholas, House, Co. Rt. 5 and Waites Run, Wardensville vicinity, 08001238, LISTED, 12/24/08

Mineral County

Davis, Henry Glassaway, House, 15-17 Jones St., Piedmont, 08001239, LISTED, 12/19/08

Randolph County

Scott Hill, 2000 Livingston Ave., Elkins, 08001240, LISTED, 12/22/08

WISCONSIN

Columbia County

Holborn, George and Tuve, House, 10507 WI 60, Lodi, 08001241, DETERMINED ELIGIBLE, 12/19/08

La Crosse County

Gund Brewing Company Bottling Works, 2130 S. Ave., La Crosse, 08001202, LISTED, 12/15/08

[FR Doc. E9-2517 Filed 2-5-09; 8:45 am]

BILLING CODE 4310-70-P